CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled National Service Trust Enrollment Form and National Service Trust Exit Form for review and approval in accordance with the Paperwork Reduction Act of 1995, Public Law 104-13, (44 U.S.C. Chapter 35). Copies of this ICR, with applicable supporting documentation, may be obtained by calling the Corporation for National and Community Service, Amy Borgstrom, at (202) 606-6930 or email to aborgstrom@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 12, 2013. This comment period ended February 9, 2014. Four public comments were received from this Notice. One commenter stated that the forms may be difficult to interpret by individuals with cognitive disabilities. All members completing the forms may do so with assistance of the programs with which they are serving, therefore we have not made changes. Multiple commenters stated that the disability information may be too detailed or intrusive. We have included language that speaks to the protections of the data, and feel that this type of information will allow us to ensure that we are serving all Americans equally. Other commenters provided a number of requests for clarification of the meaning of certain questions. We have clarified many of these questions on the forms. Multiple commenters requested that the forms state that they may be filled out on paper or electronically, and we have added a clarifying statement saying this.

Description: CNCS is seeking approval of the National Service Trust Enrollment Form and the National Service Trust Exit Form, which is used by AmeriCorps members and program staff to enroll in the National Service Trust and to document the completion of a member's term of service, a requirement to receiving a Segal Education Award, and to meet other legal and program requirements.

Type of Review: Renewal.

Agency: Corporation for National and Community Service.

Title: National Service Trust Enrollment Form and National Service Trust Exit Form.

OMB Number: 3045-0006.

Agency Number: None.

Affected Public: AmeriCorps members, grantee and other program staff.

Total Respondents: 160,000.

Frequency: One per form.

Average Time per Response: Averages 10 minutes per form.

Estimated Total Burden Hours: 266,667.

Total Burden Cost (capital/startup): None.

Total Burden Cost (operating/maintenance): None.

Dated: April 4, 2014.
Erin Dahlin,
Deputy Director of Program Coordination.

[FR Doc. 2014-08016 Filed 4-9-14; 8:45 am]

BILLING CODE 6050-28-P